DEPARTMENT OF LABOR

Employment and Training Administration

Agency Information Collection Activities: Extension of a Currently Approved Information Collection; Comment Request

ACTION: 60-day notice of information collection under review: Labor Certification for the Temporary Employment of Nonimmigrant Aliens in Agriculture in the United States; Administrative Measures to Improve Program Performance, OMB Control No. 1205-0404.

SUMMARY: The Department of Labor, as part of its continuing effort to reduce paperwork and respondent burden, is conducting a pre-clearance consultation to provide the general public and Federal agencies with an opportunity to comment on proposed and/or continuing collections of information in accordance with the Paperwork Reduction Act of 1995 (PRA95) [44 U.S.C. 3506(c)(2)(A)]. This consultation is undertaken to ensure that requested data can be provided in the desired format, reporting burden (time and financial resources) is minimized, collection instruments are clearly understood, and the impact of collection requirements on respondents can be properly assessed. Currently, the Employment and Training Administration is soliciting comments concerning the measures to improve program performance in the labor certification program for temporary employment of nonimmigrant aliens in agriculture in the United States. A copy of the proposed information collection request (ICR) can be obtained by contacting the office listed below in the addressee section of this notice or at this Web site: http://www.doleta.gov/OMBCN/OMBControlNumber.cfm.

DATES: Written comments must be submitted to the office listed in the addressee section below on or before August 25, 2008.

ADDRESSES: William L. Carlson, Administrator, Office of Foreign Labor Certification, U.S. Department of Labor, Room C4312, 200 Constitution Ave., NW., Washington, DC 20210. Phone (202) 693-3010 (This is not a toll-free number.), fax (202) 693-2768, or e-mail at ETA.OFLC.Forms@dol.gov subject line: 1205-0404.

SUPPLEMENTARY INFORMATION: I. Background: The information collection is required by 20 CFR 655.103(e) and 655.106(e)(1)(ii). The Department of Labor mandates that employers who have received certification for temporary foreign agricultural labor inform their local State Workforce Agency in writing if the foreign (H-2A) workers do not depart for the place of employment three days prior to the date of need as specified in their certified applications for such foreign labor. The departure date is used to start the running of the contract period for administration of the Fifty-percent Rule. Section 103(e) provides that the employer must continue to provide employment to any qualified and eligible U.S. worker who applies to the employer until 50 percent of the work contract period, under which the foreign worker is in the job, has elapsed. The employer's obligation to engage in positive recruitment ends on the date the foreign workers depart for the employer's place of business. The notification required under the regulations is written by the employer and sent to the SWA. The SWA uses the information to calculate the end of active recruitment requirements and Fifty-percent Rule referral requirements.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions: The information collected remains the same.

Type of Review: Extension of Currently Approved Information Collection.

Agency: Employment and Training Administration.

Title: Labor Certification for the Temporary Employment of Nonimmigrant Aliens in Agriculture in the United States; Administrative Measures to Improve Program Performance.

OMB Control No.: 1205-00404.

Agency Number(s): None.

Recordkeeping: On occasion.

Affected Public: Businesses or other for-profits, not-for-profit institutions, and farms.

Total Respondents: 385.

Estimated Total Burden Hours: 96.

Total Burden Cost (capital/startup): 0.

Total Burden Cost (operating/maintaining): 0.

Comments submitted in response to this comment request will be summarized and/or included in the request for Office of Management and Budget approval of the information collection request; they will also become a matter of public record.

Dated: June 20, 2008.
William L. Carlson,
Administrator, Office of Foreign Labor Certification.

[FR Doc. E8-14465 Filed 6-25-08; 8:45 am]

BILLING CODE 4510-FP-P